OFFICE OF THE UNITED STATES TRADE REPRESENTATIVE

[Docket No. WTO/DS-280]

WTO Dispute Settlement Proceeding Regarding Countervailing Duty Measures on Certain Steel Plate From Mexico

AGENCY: Office of the United States Trade Representative.

ACTION: Notice; request for comments.

SUMMARY: The Office of the United States Trade Representative (“USTR”) is providing notice of the establishment of a dispute settlement panel requested by the Government of Mexico under the Marrakesh Agreement Establishing the World Trade Organization (“WTO Agreement”). The Government of Mexico has requested that the panel review the calculation by the Department of Commerce (“Commerce”) of countervailing duties in the Final Results of Administrative Review in Certain Cut-to-Length Carbon Steel Plate from Mexico (C-201-810), published in the Federal Register on March 13, 2001. The Government of Mexico's request for the establishment of a panel alleges that Commerce's determination was inconsistent with various provisions of the Agreement on Subsidies and Countervailing Measures (“SCM Agreement”). USTR invites written comments from the public concerning the issues raised in this dispute.

DATES: Although USTR will accept any comments received during the course of the dispute settlement proceedings, comments should be submitted on or before July 21, 2004 to be assured of timely consideration by USTR.

ADDRESSES: Comments should be submitted (i) electronically, to FR0402@ustr.gov, Attn: “Mexican Steel Plate Dispute” in the subject line, or (ii) by fax, to Sandy McKinzy at (202) 395-3640, with a confirmation copy sent electronically to the e-mail address above.

FOR FURTHER INFORMATION CONTACT: Elizabeth V. Baltzan, Assistant General Counsel, Office of the United States Trade Representative, 600 17th Street, NW., Washington, DC 20508, (202) 395-3582.

SUPPLEMENTARY INFORMATION: Pursuant to section 127(b) of the Uruguay Round Agreements Act (“URAA”) (19 U.S.C. 3537(b)(1)), USTR is providing notice that on August 8, 2003, the Government of Mexico submitted a request for establishment of a dispute settlement panel to examine the final results of administrative review, in which Commerce concluded that imports of steel plate from Mexico were subsidized and sold in the United States.

Major Issues Raised and Legal Basis of the Complaint

In the final results of administrative review, Commerce imposed countervailing duties following the application of what is known as the “change-in-ownership” methodology. On the basis of this methodology, Commerce determined that the foreign producer was the “same person” before and after its privatization. According to the Government of Mexico, Commerce therefore concluded that the subsidies continued to confer a benefit on the foreign producer, for which reason countervailing duties continued to be imposed.

The Government of Mexico alleges that in so doing, Commerce did not fulfill its obligation to determine the existence of a subsidy and the benefit to the recipient. The Government of Mexico further alleges that failure to fulfill this obligation constitutes a violation of Articles 10, 14, 19, and 21 of the SCM Agreement.

On June 30, 2003, Commerce published in the Federal Register a Notice of Final Modification of Agency Practice Under section 123 of the Uruguay Round Agreement Act (“Notice”), in which Commerce modified its “change in ownership” methodology, including the “same person” test. According to the Notice, the modification is applicable to investigations and reviews initiated on or after June 30, 2003. Commerce did not apply the modified methodology to the administrative review that is the subject of this dispute as the review predated the modification.

Public Comment: Requirements for Submissions

Interested persons are invited to submit written comments concerning the issues raised in this dispute. Persons submitting comments may either send one copy by fax to Sandy McKinzy at (202) 395-3640, or transmit a copy electronically to FR0402@ustr.gov, with “Mexican Steel Plate Dispute” in the subject line. For documents sent by fax, USTR requests that the submitter provide a confirmation copy electronically. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must so designate the information or advice;

(2) Must clearly mark the material as “SUBMITTED IN CONFIDENCE” at the top and bottom of the cover page and each succeeding page of the submission; and

(3) Is encouraged to provide a non-confidential summary of the information or advice.

Pursuant to section 127(e) of the URAA (19 U.S.C. 3537(e)), USTR will maintain a file on this dispute settlement proceeding, accessible to the public, in the USTR Reading Room, which is located at 1724 F Street, NW, Washington, DC 20508. The public file will include non-confidential comments received by USTR from the public with respect to the dispute; the U.S. submissions to the panel in the dispute, the submissions, or non-confidential summaries of submissions, to the panel received from other participants in the dispute, as well as the report of the panel; and, if applicable, the report of the Appellate Body. An appointment to review the public file may be made by calling the USTR Reading Room at (202) 395-6186. The USTR Reading Room is open to the public from 9:30 a.m. to 12 noon and 1 p.m. to 4 p.m., Monday through Friday.

Bruce R. Hirsh,
Acting Assistant United States Trade Representative for Monitoring and Enforcement.

[FR Doc. 04-13948 Filed 6-18-04; 8:45 am]

BILLING CODE 3190-W4-P